DEPARTMENT OF COMMERCE

Economics and Statistics Administration

Performance Review Board Membership

SUMMARY: Below is a listing of individuals who are eligible to serve on the Performance Review Board in accordance with the Economics and Statistics Administration's Senior Executive Service and Senior Professional Performance Management Systems:

Herman Habermann, Shirin A. Ahmed, Teresa Angueira, William G. Bostic, Jr., Stephanie Brown, Howard Hogan, Nancy M. Gordon, Arnold A. Jackson, Theodore A. Johnson, Ruth Ann Killion, Robert LaMacchia, Michael J. Longini, Thomas L. Mesenbourg, Jr;

C. Harvey Monk, Andrew H. Moxam, Walter C. Odom, Jr., Marvin D. Raines, Brian Monaghan, Richard W. Swartz, Alan R. Tupek, Preston J. Waite, Mark E. Wallace, Daniel H. Weinberg, Ewen M. Wilson;

Tommy Wright, Robert Fay III, William Bell, Elizabeth Martin, Paul Friday, David Findley, J. Steven Landefeld, Dennis J. Fixler, Ralph H. Kozlow, Alan C. Lorish, Rosemary D. Marcuss, Brent R. Moulton;

Sumiye O. Okubo, John W. Ruser, James K. White, Katherine Wallman, and Dr. Jennifer Madans.

FOR FURTHER INFORMATION CONTACT: John Cunningham, 301-763-3727.

Dated: August 16, 2006.
James K. White,
Associate Under Secretary for Management, Chair, Performance Review Board.

[FR Doc. 06-7087 Filed 8-22-06; 8:45 am]

BILLING CODE 3510-BS-M